DEPARTMENT OF VETERANS AFFAIRS

[OMB Control No. 2900-New (HEC)]

Agency Information Collection (Health Eligibility Center (HEC) New Enrollee Survey) Activity Under OMB Review

AGENCY: Veterans Health Administration, Department of Veterans Affairs.

ACTION: Notice.

SUMMARY: In compliance with the Paperwork Reduction Act (PRA) of 1995 (44 U.S.C. 3501-21), this notice announces that the Veterans Health Administration, Department of Veterans Affairs, will submit the collection of information abstracted below to the Office of Management and Budget (OMB) for review and comment. The PRA submission describes the nature of the information collection and its expected cost and burden and includes the actual data collection instrument.

DATES: Comments must be submitted on or before February 22, 2010.

ADDRESSES: Submit written comments on the collection of information through http://www.Regulations.gov; or to VA's OMB Desk Officer, OMB Human Resources and Housing Branch, New Executive Office Building, Room 10235, Washington, DC 20503 (202) 395-7316. Please refer to “OMB Control No. 2900-New (HEC)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-New (HEC).”

SUPPLEMENTARY INFORMATION: Title: Health Eligibility Center (HEC) New Enrollee Survey, VA Form 10-0479.

OMB Control Number: 2900-New (HEC).

Type of Review: New collection.

Abstract: The data collected on VA Form 10-0479 will be used to improve customer service processes for Veterans applying for health care benefits. VA will use this information to determine the quality of customer service given to the Veteran and to identify what areas within the process are in need for improvement.

An agency may not conduct or sponsor, and a person is not required to respond to a collection of information unless it displays a currently valid OMB control number. The Federal Register Notice with a 60-day comment period soliciting comments on this collection of information was published on November 13, 2009, on pages 58683-58684.

Affected Public: Individuals or Households.

Estimated Annual Burden: 153 hours.

Estimated Average Burden per Respondent: 5.7 minutes.

Frequency of Response: Annually.

Estimated Number of Respondents: 1,055.

Dated: January 15, 2010.
By direction of the Secretary.
Denise McLamb,
Program Analyst, Enterprise Records Service.

[FR Doc. 2010-1030 Filed 1-20-10; 8:45 am]

BILLING CODE 8320-01-P